DEPARTMENT OF LABOR

Employment and Training Administration

[TA-W-53,798]

Mohican Mills, Inc., Lincolnton, NC; Notice of Revised Determination on Remand

The United States Court of International Trade (USCIT) granted the Secretary of Labor's motion for voluntary remand for further investigation of the negative determination in Former Employees of Mohican Mills, Inc. v. U.S. Secretary of Labor (Court No. 04-00255).

The Department's denial of the initial petition (filed on December 11, 2003) was issued on February 2, 2004. The Notice of determination was published in the Federal Register (69 FR 11891) on March 12, 2004. The denial was based on the facts that imports of warp knit fabric did not contribute importantly to worker separations at the subject firm and that the subject firm did not shift production abroad during the relevant time period.

By letter dated February 22, 2004, the petitioner requested administrative reconsideration, alleging that workers producing lace are separately identifiable from workers producing other types of warp knit fabric. The Notice of Affirmative Determination Regarding Application for Reconsideration was issued on April 16, 2004, and published in the Federal Register on April 30, 2004 (69 FR 23818).

A Negative Determination on Reconsideration was issued on May 7, 2004, and published in the Federal Register on May 24, 2004 (69 FR 29580). During the reconsideration investigation, the Department found that lace is a type of warp knit fabric, that lace production constitute a small percentage of subject firm production, and that lace workers are not separately identifiable from other warp knit fabric producers. A new customer survey was not conducted since the survey appeared to be adequate.

By letter dated June 24, 2004, the petitioner filed an appeal with the USCIT, alleging that lace is a product distinct from other types of warp knit fabric, that lace production constituted about 20% to 25% of overall production, and that lace workers are separately identifiable from workers producing other types of warp knit fabric.

On August 16, 2004, the USCIT remanded the matter to the Department for further investigation.

During the remand investigation, the Department confirmed that while lace is a distinct type of warp knit fabric, workers producing lace are not separately identifiable from workers producing other types of warp knit fabric.

The Department conducted an expanded sample survey of the subject firm's major declining customers regarding purchases of warp knit fabric, circular knit fabrics and lace knit fabric during the relevant period. The survey revealed that a meaningful portion of the respondents increased their reliance on imports during the relevant period.

Workers at the subject firm possess skills that are not easily transferable to jobs in the local commuting area and at least five percent of the workers at the subject firm is at least fifty years of age. Competitive conditions within the industry are adverse.

Conclusion

After careful review of the additional facts obtained on remand, I conclude that there were increased imports of articles like or directly competitive with those produced by the subject firm that contributed importantly to the worker separations and sales or production declines at the subject facility. In accordance with the provisions of the Trade Act, I make the following certification:

All workers of Mohican Mills, Inc., Lincolnton, North Carolina who became totally or partially separated from employment on or after December 11, 2002, through two years from the issuance of this revised determination, are eligible to apply for adjustment assistance under Section 223 of the Trade Act of 1974, and are eligible to apply for alternative trade adjustment assistance under Section 246 of the Trade Act of 1974.

Signed in Washington, DC, this 13th day of October 2004.
Elliott S. Kushner,
Certifying Officer, Division of Trade Adjustment Assistance.

[FR Doc. E4-2843 Filed 10-25-04; 8:45 am]

BILLING CODE 4510-30-P